DEPARTMENT OF STATE

[Public Notice: 9960]

Bureau of International Organization Affairs; The U.S. National Commission for UNESCO; Notice of Renewal of Committee Charter

I. Renewal of Advisory Committee. The Department of State has renewed the Charter of the U.S. National Commission for the United Nations Educational, Scientific, and Cultural Organization (UNESCO). The U.S. National Commission for UNESCO, which operates pursuant to 22 U.S. Code 287o and the requirements of the Federal Advisory Committee Act (FACA), is a Federal Advisory Committee that provides recommendations to the U.S. Department of State.

The recommendations relate to the formulation and implementation of U.S. policy towards UNESCO on matters of education, science, communications, and culture. Also, the Commission functions as a liaison with organizations, institutions, and individuals in the United States interested in the work of UNESCO.

The Commission is comprised of representatives of American organizations and institutions having an interest in education, science, communications and culture, including professional associations, educational institutions, and non-governmental organizations (NGOs), as well as representatives of federal, state and local governments, and at-large individuals. The Commission meets to provide information on UNESCO related topics and make recommendations.

For further information, please call Paul Mungai, U.S. Department of State, (202) 663-2407.

Paul Mungai,
Acting Executive Director, U.S. National Commission for UNESCO. Department of State.

[FR Doc. 2017-07481 Filed 4-12-17; 8:45 am]

BILLING CODE 4710-19-P